DEPARTMENT OF THE INTERIOR

Bureau of Ocean Energy Management

[Docket No. BOEM-2021-0018]

Research Lease Issuance for Marine Hydrokinetic Energy on the Pacific Outer Continental Shelf Offshore Oregon

AGENCY: Bureau of Ocean Energy Management, Interior.

ACTION: Notice of lease issuance.

SUMMARY: This notice informs the public of the Bureau of Ocean Energy Management's (BOEM's) issuance of an executed, noncompetitive lease, Renewable Energy Lease No. OCS-P 0560, to Oregon State University for marine hydrokinetic research activities offshore Oregon and defines the size of the lease area. This notice is issued under BOEM's regulations.

FOR FURTHER INFORMATION CONTACT: Dr. Whitney Hauer, BOEM Pacific Region, Office of Strategic Resources, 760 Paseo Camarillo (Suite 102), Camarillo, California 93010, (805) 384-6263 or whitney.hauer@boem.gov.

SUPPLEMENTARY INFORMATION: On March 24, 2014, BOEM published in the Federal Register a public notice of an unsolicited request for an Outer Continental Shelf renewable energy research lease submitted by Oregon State University (OSU) for marine hydrokinetic (MHK) research activities. 79 FR 16050 (Mar. 24, 2014). The public notice included a request for competitive interest (RFCI) and a request for public comment.

After evaluating the comments received in response to the RFCI, on June 20, 2014, BOEM published in the Federal Register its determination that there was no competitive interest in the area requested by OSU. 79 FR 35377 (June 20, 2014). On February 16, 2021, BOEM issued a lease for MHK research activities to OSU for the PacWave South project, a proposed open ocean wave energy test center, to be located approximately 6 nautical miles offshore Newport, Oregon.

The total acreage of the lease area is approximately 4,270 acres. The lease area is comprised of 12 aliquots (i.e., sub-blocks) within Official Protraction Diagram Newport Valley NL10-10 Blocks 6481 and 6531. The project easement is a 200-foot-wide corridor on which five cables will be located within Official Protraction Diagrams Newport Valley NL 10-10 Block 6531 and Salem NL 10-11 Blocks 6501 and 6551.

Lease issuance by BOEM is a prerequisite for a license from the Federal Energy Regulatory Commission, which is the Federal agency that would approve project construction and operations. The lease and supporting documentation, including required environmental compliance documentation and the notices that solicited competitive interest, can be found online at: https://www.boem.gov/renewable-energy/state-activities/pacwave-south-project.

Authority: 43 U.S.C. 1337(p); 30 CFR 585.238(f) and 30 CFR 585.206(a).

Amanda Lefton,
Director, Bureau of Ocean Energy Management.

[FR Doc. 2021-15998 Filed 7-27-21; 8:45 am]

BILLING CODE 4310-MR-P